DEPARTMENT OF ENERGY

Federal Energy Regulatory Commission

[Docket No. ER05-428-000]

New York Independent System Operator, Inc.; Notice of Agenda for Staff Technical Conference

March 17, 2005.

As announced in a Notice of Technical Conference issued on March 10, 2005, in the above-captioned proceeding, the Commission's staff will conduct a technical conference to be held on Monday, March 21, 2005, at 10 a.m. (EST) and, if necessary, on Tuesday, March 22, 2005, at the Federal Energy Regulatory Commission, 888 First Street NE., Washington, DC 20426. The March 21, 2005 conference will be held in the Commission Meeting Room. Attached is the agenda for the conference.

We will accept written statements from speakers at the conference that may wish to supplement their oral statements, or from any other party attending the conference.

Magalie R. Salas,
Secretary.

Attachment

Agenda for Technical Conference on Parameters for NYISO's Installed Capacity Requirement Demand Curve

March 21, 2005—Agenda

Opening Statements

Panel 1: Costs of Peakers

Panelists:

○ Belinda Thornton, NYISO

○ John Charlton, NYISO

○ Seth Parker, Levitan Associates

○ Ray Kinney, NYSEG

○ Norman Mah, Consolidated Edison

○ Jonathan Wallach, City of New York

○ Jeff Hogan, New York State Department of Public Service

○ Michael B. Mager, Multiple Intervenors

○ Glenn D. Haake, IPPNY

○ Mark Younger, IPPNY

(addressing the following specific issues):

1. Accuracy/Appropriateness of Peaking Unit Characteristics

• Are the operating characteristics of the assumed peaking units (the 7FA and LM6000) used by Levitan reasonable? If not, what are reasonable operating characteristics?

• Is the ability of these units to participate in ancillary services and day-ahead markets, particularly given their environmental permits, important in determining the parameters of the demand curve?

2. Peaking Unit Costs

• Are the capital cost assumptions and financing periods used in the Levitan analysis reasonable? If not, what assumptions are reasonable?

3. Local Siting Costs and Constraints

• Should local costs and constraints be included in development of costs for a representative peaking unit?

• Are Keyspan-Ravenswood's points concerning local siting issues, such as fixed gas transportation costs and local property taxes, correct?

Lunch Break

Panel 2: Revenue Offset

Panelists:

○ David Patton, Ph.D., Potomac Economics

○ Seth Parker, Levitan Associates

○ Ray Kinney, NYSEG

○ Norman Mah, Consolidated Edison

○ Jonathan Wallach, City of New York

○ Mark Reeder, New York State Department of Public Service

○ Mark Younger, IPPNY

○ Doreen Unis Saia, Mirant

○ Madison Milhous, KeySpan Energy Supply

○ Ron Norman, PA Consulting Group

(addressing the following specific issues):

4. Load Shapes

• Does the 2002 load shape used in the Levitan analysis represent normal weather? If not, what load shape does represent normal weather?

5. Modeling Assumptions

• Is it necessary to reflect recent new capacity additions in NYCA in the modeling of future net revenues?

6. Scarcity Component

• Should the NYISO have included an adjustment for the scarcity component in their derivation of the Annual Reference Value, and if so, what adjustment is reasonable?

• What were the assumptions used to develop the scarcity component?

• Are the assumptions consistent with the Levitan analysis?

7. Impact on Demand Curve Parameters

• How do you reflect potential interdependencies between different assumptions?

8. Is it reasonable to include an adjustment reflecting winter and summer capacity levels in the Annual Reference Value for NYCA Demand Curve? Is it reasonable to not include a similar adjustment for the New York City Demand Curve?

Panel 3: Zero Crossing Point

Panelists:

○ David Patton, Ph.D., Potomac Economics

○ Belinda Thornton, NYISO

○ John Charlton, NYISO

○ Jonathan Wallach, City of New York

○ Glenn D. Haake, IPPNY

○ Thomas Paynter, New York State Department of Public Service

○ Kevin Jones LIPA

(addressing the following specific issue):

9. Should the Zero Crossing Point be changed? If so, what should be the Zero Crossing Point, and why?

Adjourn (after deciding whether additional session on Tuesday, March 22 is needed).

[FR Doc. E5-1259 Filed 3-22-05; 8:45 am]

BILLING CODE 6717-01-P